DEPARTMENT OF HEALTH AND HUMAN SERVICES

Centers for Disease Control and Prevention

[Program Announcement Number 00102]

Announcement of a Cooperative Agreement With the Hispanic-Serving Health Professions Schools (HSHPS), Inc. To Enhance Research, Infrastructure, and Capacity Building

A. Purpose

The Centers for Disease Control and Prevention (CDC) and the Agency for Toxic Substances and Disease Registry (ATSDR) announce the availability of fiscal year (FY) 2000 funds for a cooperative agreement program with the Hispanic-Serving Health Professions Schools, Inc. (HSHPS). The purpose of the program is to assist the HSHPS in developing the commitment and capacity of their member institutions to promote education, development, research, leadership and community partnerships that enhance the health status of Hispanics in the United States and enhance the participation of Hispanics in the health professions.

The CDC and ATSDR are committed to achieving the health promotion and disease prevention objectives of “Healthy People 2010”, a national activity to reduce morbidity and mortality and to improve the quality of life. This announcement is related to the 2010 objectives which specify improving the health of groups of people bearing a disproportionate burden of poor health as compared to the total population. Several themes distinguished “Healthy People 2010” from past efforts, reflecting the progress and experience of 10 years, as well as an expanded science base for developing health promotion and disease prevention objectives. The framework of “Healthy People 2010” consists of two broad goals which are to:

1. Increase quality and years of healthy life; and

2. Eliminate health disparities.

“Healthy People 2010” is well established as the Nation's prevention goals and as a scorecard for monitoring health status. The new national goals and objectives for “Healthy People 2010” will build upon this foundation by establishing a small set of leading health indicators that could be presented to the general public and non-health professionals as an introduction to “Healthy People”. “Healthy People 2010” will be a tool for monitoring America's health. For the conference copy of “Healthy People 2010” visit the internet site: <<http://www.health.gov/healthypeople>

The life expectancy of Americans has steadily increased. In 1979, when the first set of national health targets was published in “Health People: The Surgeon General's Report on Health Promotion and Disease Prevention”, average life expectancy was 73.7 years. Based on current mortality experience, babies born in 1995 are expected to live 75.8 years. However, people have become increasingly interested in other health goals, such as preventing disability, improving functioning, and relieving pain and the distress caused by physical and emotional symptoms.

The proportion of the population who assess their current health status positively has not changed substantially during the past decade. In 1987, the percentage was 90.4 percent. During the same period, the percentage of the population reporting that they were limited in major activity due to chronic conditions actually increased from 18.9 percent in 1988, to 21.4 percent in 1995.

Eliminating disparities by the year 2010 will require new knowledge about the determinants of disease and effective interventions for prevention and treatment. It will also require improved access for all to the resources that influence health. Reaching this goal will necessitate improved collection and use of standardized data to correctly identify all high-risk populations and monitor the effectiveness of health interventions targeting these groups. Research dedicated to a better understanding of the relationships between health status and income, education, race and ethnicity, cultural influences, environment, and access to quality medical services will help us acquire new insights into eliminating the disparities and developing new ways to apply our existing knowledge toward this goal. Improving access to quality health care and the delivery of preventive and treatment services will require working more closely with communities to identify culturally sensitive implementation strategies.

Although health statistics on race, ethnicity, socioeconomic status and disabilities are sparse, the data we do have demonstrate the volume of work needed to eliminate health disparities. The greatest opportunities for improvement and the greatest threats to the future health status of the nation reside in the population groups that have historically been disadvantaged economically, educationally and politically. We must do a better job in identifying the disparities that exist, work toward elimination, and strive to create better health for all.

B. Eligible Applicants

Assistance will be provided only to the Hispanic-Serving Health Professions Schools (HSHPS). No other applications are solicited.

The Hispanic-Serving Health Professions Schools (HSHPS), Inc. is a non-profit 501(c)(3) organization established in 1996 in response to the President's Executive Order 12900, “Educating Excellence for Hispanic Americans.” The mission of the HSHPS is to develop the commitment of the member institutions to promote education, research, leadership and community partnership that enhance the participation of Hispanics in the health professions and to enhance the health status of Hispanics in the United States. The HSHPS are the most appropriate and qualified institutions to provide services specified under this cooperative agreement because:

1. HSHPS represents 16 medical schools across the country with a 9 percent Hispanic student enrollment. These schools represent a primary educational system that educate and train Hispanic health care providers across the United States, with a potential for encompassing a full spectrum of the health care providers needed by the Hispanic population groups.

2. HSHPS principle goals are:

a. to strengthen the nation's capacity to educate and increase the numbers of high-quality Hispanic health care providers to serve and improve the health status of Hispanics and other populations now and into the 21st century;

b. to develop educational opportunities for health professions schools in curriculum, research, and clinical experiences that will enable Hispanic and non-Hispanic health professions students to provide excellent health care to Hispanic populations;

c. to establish or expand outreach projects, grants and scholarships for Hispanics to enter health professions careers;

d. to stimulate health professions institutions to increase, promote and retain Hispanic faculty and researchers;

e. to identify targeted health outcomes which will improve the health of Hispanic populations and support health policies, systems of care, and projects which help to achieve these outcomes; and

f. to promote collaboration at the regional and national levels between educational institutions, communities and other partners.

3. Through the collective efforts of its member institutions, the HSHPS has demonstrated the ability to work with academic institutions, government health agencies, and the private sectors on mutual education, service, and research endeavors.

4. The HSHPS has demonstrated that it has the leadership necessary to attract minority health professions into public health or health related professional careers.

5. The HSHPS has the infrastructure to consult with Hispanic health professionals through its national organizations whose member institutions are all predominately Hispanic-serving health professions institutions with excellent professional performance records.

C. Availability of Funds

Approximately $300,000 is available in FY 2000 to fund this cooperative agreement. Subawards will be funded through CDC and ATSDR. A cumulative award of approximately $2,000,000 to the HSHPS is expected during FY 2000. It is expected that the awards will begin on September 30, 2000.

Funding estimates may vary and are subject to change. Continuation awards within the project period will be made on the basis of satisfactory progress and the availability of funds.

D. Where to Obtain Additional Information

A complete program description and information on application procedures are contained in the application package. Business management technical assistance may be obtained from Dorimar Rosado, Grants Management Specialist, Grants Management Branch, Procurement and Grants Office, Centers for Disease Control and Prevention (CDC), 2920 Brandywine Road, Room 3000, M.S. E-15, Koger Center, Colgate Building, Atlanta, Georgia 30341-3724. Telephone 770-488-2736. E-mail address dpr7@cdc.gov.

Program technical assistance may be obtained from Karen E. Harris, Senior Advisor for Research Projects, Office of the Associate Director for Minority Health, Office of the Director, Centers for Disease Control and Prevention, 1600 Clifton Road, Northeast, Mailstop D-39, Atlanta, Georgia 30333. Telephone (404) 639-4313, E-mail address keh2@cdc.gov.

Dated: July 10, 2000.
John L. Williams,
Director, Procurement and Grants Office, Centers for Disease Control and Prevention (CDC).

[FR Doc. 00-17835 Filed 7-13-00; 8:45 am]

BILLING CODE 4163-18-P